DEPARTMENT OF AGRICULTURE

Agricultural Marketing Service

7 CFR Parts 900, 1150, 1160, 1205, 1206, 1207, 1208, 1209, 1210, 1212, 1214, 1215, 1216, 1217, 1218, 1219, 1220, 1221, 1222, 1230, 1250, 1260, and 1280

[Document Number AMS-FV-14-0032]

Exemption of Organic Products From Assessment Under a Commodity Promotion Law

AGENCY: Agricultural Marketing Service, USDA.

ACTION: Extension of comment period.

SUMMARY: Notice is hereby given that the comment period on proposed modifications to the organic assessment exemption regulations under 23 Federal marketing orders and 22 research and promotion programs is extended until February 17, 2015. The proposed rule would expand the organic assessment exemption to cover all “organic” and “100 percent organic” products certified under the National Organic Program regardless of whether the person requesting the exemption also produces, handles, markets, or imports conventional or nonorganic products. The authority for this proposal is in section 10004 of the Agricultural Act of 2014.

DATES: Comments must be received by February 17, 2015.

ADDRESSES: Interested persons are invited to submit written comments concerning this proposal. Comments must be sent to the Docket Clerk, Marketing Order and Agreement Division, Fruit and Vegetable Program, AMS, USDA, 1400 Independence Avenue SW., STOP 0237, Washington, DC 20250-0237; Fax: (202) 720-8938; or Internet: http://www.regulations.gov. All comments should reference the document number and the date and page number of this issue and the December 16, 2014, issue of the Federal Register. Comments will be included in the record and made available for public inspection in the Office of the Docket Clerk during regular business hours, or can be viewed at: http://www.regulations.gov. Please be advised that the identity of the individuals or entities submitting the comments will be made public on the Internet at the address provided above.

FOR FURTHER INFORMATION CONTACT: Barry Broadbent, Senior Marketing Specialist, or Michelle Sharrow, Branch Chief, Marketing Order and Agreement Division, Fruit and Vegetable Program, AMS, USDA, 1400 Independence Avenue SW., STOP 0237, Washington, DC 20250-0237; Telephone: (202) 720-2491, Fax: (202) 720-8938; or email: Barry.Broadbent@ams.usda.gov, or Michelle.Sharrow@ams.usda.gov.

SUPPLEMENTARY INFORMATION: A proposed rule was published in the Federal Register on December 16, 2014 (79 FR 75006). The proposed rule would expand the organic assessment exemption, currently only available to entities that produce or market solely 100 percent organic products, to cover all “organic” and “100 percent organic” products certified under the National Organic Program regardless of whether the person requesting the exemption also produces, handles, markets, or imports conventional or nonorganic products. The action is authorized by the Agricultural Act of 2014. The comment period established in the proposed rule closes January 15, 2015.

USDA received comments from affected programs and industry members requesting that the comment period be extended beyond January 15, 2015. The comments expressed concern that the original December 16 to January 15 comment period was insufficient given the numerous holidays that occurred during that timeframe. The commenters requested the extension to provide additional time for interested persons to analyze the proposal and to submit written comments.

After reviewing the requests, USDA is extending the comment period to February 17, 2015. This will provide interested persons over 60 days to review the proposed rule, perform a complete analysis, and submit written comments.

Authority: This document is issued pursuant to the Agricultural Marketing Agreement Act of 1937 (7 U.S.C. 601-674); Beef Promotion and Research Act of 1985 (7 U.S.C. 2901-2911); Commodity Promotion, Research, and Information Act of 1996 (7 U.S.C. 7411-7425); Cotton Research and Promotion Act of 1966 (7 U.S.C. 2101-2118); Dairy Production Stabilization Act of 1983 (7 U.S.C. 4501-4514); Egg Research and Consumer Information Act of 1974 (7 U.S.C. 2701-2718); Fluid Milk Promotion Act of 1990 (7 U.S.C. 6401-6417); Hass Avocado Promotion, Research, and Information Act of 2000 (7 U.S.C. 7801-7813); Mushroom Promotion, Research, and Consumer Information Act of 1990 (7 U.S.C. 6101-6112); Popcorn Promotion, Research, and Consumer Information Act of 1996 (7 U.S.C. 7481-7491); Pork Promotion, Research, and Consumer Information Act of 1985 (7 U.S.C. 4801-4819); Potato Research and Promotion Act of 1971 (7 U.S.C. 2611-2627); Soybean Promotion, Research, and Consumer Information Act (7 U.S.C. 6301-6311); and Watermelon Research and Promotion Act (7 U.S.C. 4901-4916); and 7 U.S.C. 7401.

Dated: January 12, 2015.
Rex A. Barnes,
Associate Administrator, Agricultural Marketing Service.

[FR Doc. 2015-00540 Filed 1-14-15; 8:45 am]

BILLING CODE 3410-02-P